FEDERAL HOUSING FINANCE AGENCY

[No. 2016-N-13]

Privacy Act of 1974; System of Records

AGENCY: Federal Housing Finance Agency.

ACTION: Notice of revision to an existing system of records; request for comments.

SUMMARY: In accordance with the requirements of the Privacy Act of 1974, as amended, 5 U.S.C. 552a (Privacy Act), the Federal Housing Finance Agency (FHFA) is making a revision to an existing system of records entitled “National Mortgage Database Project” (FHFA-21). The system of records covers the National Mortgage Database Project which is comprised of the National Mortgage Database, the National Survey of Mortgage Originations (formerly known as the National Survey of Mortgage Borrowers), and the American Survey of Mortgage Borrowers. The National Mortgage Database Project is for monitoring, researching, analyzing, and reporting information relevant to the functioning of the mortgage markets.

DATES: To be assured of consideration, comments must be received on or before January 26, 2017. The revisions to the existing system will become effective on February 6, 2017 unless comments necessitate otherwise. FHFA will publish a new notice if, in order to review comments, the effective date is delayed or if changes are made based on comments received.

ADDRESSES: Submit comments, identified by “2016-N-13,” using only one of the following methods:

• Agency Web site: www.fhfa.gov/open-for-comment-or-input.

• Federal eRulemaking Portal: http://www.regulations.gov. Follow the instructions for submitting comments. If you submit your comment to the Federal eRulemaking Portal, please also send it by email to FHFA at RegComments@fhfa.gov to ensure timely receipt by FHFA. Please include “2016-N-13” in the subject line of the message.

• Hand Delivered/Courier: The hand delivery address is: Alfred M. Pollard, General Counsel, Attention: Comments/2016-N-13, Federal Housing Finance Agency, 400 Seventh Street SW., Eighth Floor, Washington, DC 20219. To ensure timely receipt of hand delivered package, please ensure that the package is delivered to the Seventh Street entrance Guard Desk, First Floor, on business days between 9 a.m. to 5 p.m.

• U.S. Mail, United Parcel Service, Federal Express, or Other Mail Service: The mailing address for comments is: Alfred M. Pollard, General Counsel, Attention: Comments/2016-N-13, Federal Housing Finance Agency, 400 Seventh Street SW., Eighth Floor, Washington, DC 20219. Please note that all mail sent to FHFA via the U.S. Postal Service is routed through a national irradiation facility, a process that may delay delivery by approximately two weeks. For any time-sensitive correspondence, please plan accordingly.

See SUPPLEMENTARY INFORMATION for additional information on submission and posting of comments.

FOR FURTHER INFORMATION CONTACT: Forrest Pafenberg, Program Manager, National Mortgage Database Project, Forrest.Pafenberg@fhfa.gov or (202) 649-3129; Stacy Easter, Privacy Act Officer, privacy@fhfa.gov or (202) 649-3803; or David A. Lee, Senior Agency Official for Privacy, privacy@fhfa.gov or (202) 649-3803 (not toll-free numbers), Federal Housing Finance Agency, 400 Seventh Street SW., Washington, DC 20219. The telephone number for the Telecommunications Device for the Deaf is 800-877-8339.

SUPPLEMENTARY INFORMATION:

I. Comments

FHFA seeks public comments on the revision to the system of records and will take all comments into consideration. See 5 U.S.C. 552a(e)(4) and (11). In addition to referencing “Comments/2016-N-13,” please reference the “National Mortgage Database Project” (FHFA-21).

All comments received will be posted without change on the FHFA Web site at http://www.fhfa.gov, and will include any personal information provided, such as name, address (mailing and email), and telephone numbers. In addition, copies of all comments received will be available without change for public inspection on business days between the hours of 10 a.m. and 3 p.m., at the Federal Housing Finance Agency, 400 Seventh Street SW., Washington, DC 20219. To make an appointment to inspect comments, please call the Office of General Counsel at (202) 649-3804.

II. Introduction

This notice satisfies the Privacy Act requirement that an agency publish a system of records notice in the Federal Register when there is an addition or change to an agency's system of records. Congress has recognized that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedure Act. The Director of FHFA has determined that records and information in this system of records are not exempt from the requirements of the Privacy Act.

As required by the Privacy Act, 5 U.S.C. 552a(r), and pursuant to paragraph 4c of Appendix I to OMB Circular No. A-130, “Federal Agency Responsibilities for Maintaining Records About Individuals,” dated November 28, 2000, FHFA has submitted a report describing the system of records covered by this notice to the Committee on Oversight and Government Reform of the House of Representatives, the Committee on Homeland Security and Governmental Affairs of the Senate, and the Office of Management and Budget.

III. Revised System of Records

The “National Mortgage Database Project” (FHFA-21) system of records is being revised to add data fields related to language, specifically information related to Limited English Proficiency or a Preferred Language. The information is being collected to identify obstacles for borrowers with Limited English Proficiency (LEP) or a Preferred Language (PL) in accessing mortgage credit, analyze potential solutions, and develop measures to improve access to credit. This information will assist FHFA in ensuring that its regulated entities appropriately support meaningful access to the mortgage market for mortgage ready LEP/PL borrowers, as well as support the overall goal of assuring that borrowers are able to understand and participate fully in the mortgage life cycle, including origination, servicing, and loss mitigation, regardless of the language spoken.

Information about LEP or PL will be collected as part of the National Survey of Mortgage Originations and the American Survey of Mortgage Borrowers. Responses to the survey will be maintained in anonymized form as part of the National Mortgage Database Project. A separate opt-out list from the Surveys will be maintained which will contain name, address, and Zip Code of those individuals who have opted out of receiving communications about the Surveys. FHFA employees will not have access to this list. This list is maintained in order to ensure that these individuals do not receive any future communications about the Surveys after opting out.

The revision to the system of records notice is described in detail below. All other aspects of the system of records notice, other than the changes described below, remain unchanged.

FHFA-21

SYSTEM NAME:

National Mortgage Database Project.

CATEGORIES OF RECORDS IN THE SYSTEM:

Records include information related to an individual's language preference, including, but not limited to, information about the borrower's or co-borrower's Limited English Proficiency and/or Preferred Language.

Dated: December 21, 2016.
Melvin L. Watt,
Director, Federal Housing Finance Agency.

[FR Doc. 2016-31381 Filed 12-27-16; 8:45 am]

BILLING CODE 8070-01-P